DEPARTMENT OF THE INTERIOR

Bureau of Land Management

43 CFR Parts 3000, 3100, 3200, 3400, 3500, 3600, and 3800

[WO-610-4111-02-24-IA]

RIN 1004-AC64

Oil and Gas Leasing; Geothermal Resources Leasing; Coal Management; Management of Solid Minerals Other Than Coal; Mineral Materials Disposal; and Mining Claims Under the General Mining Laws

AGENCY: Bureau of Land Management, Interior.

ACTION: Proposed rule; notice of extension of public comment period.

SUMMARY: The Bureau of Land Management (BLM) is extending the public comment period on a Notice of Proposed Rule, published in the Federal Register on December 15, 2000 (65 FR 78440). The proposed rule would amend Bureau of Land Management (BLM) mineral resources regulations to increase fees and to impose new fees to cover BLM's costs of processing certain documents relating to its minerals programs. The primary purpose of this rule is to charge those who benefit from these minerals programs, rather than the general public, the costs of BLM minerals documents processing. In response to public requests for additional time, BLM extends the comment period 60 days from the original comment period closing date of February 13, 2001, to the extended comment period's closing date of April 16, 2001.

DATES: Send your comments to BLM on or before April 16, 2001 to assure BLM will consider them in preparing the final rule.

ADDRESSES: Send your comments to the Bureau of Land Management Administrative Record, Room 401 LS, 1849 C Street, NW., Washington, DC 20240, or hand deliver comments to the Bureau of Land Management Administrative Record, Room 401, 1620 L Street, NW., Washington DC. For information about filing comments electronically, see the SUPPLEMENTARY INFORMATION section under “Electronic access and filing address.”

FOR FURTHER INFORMATION CONTACT: For questions about fluid minerals (oil, gas, geothermal resources) call Kermit Witherbee at (202) 452-0335. For questions about solid minerals, including coal, Durga Rimal at (202) 452-0372. If you require a telecommunications device for the deaf (TDD), you may call the Federal Information Relay Service at 1-800-877-8339 between 8:00 a.m. and 4:00 p.m. Eastern time, Monday through Friday, excluding Federal holidays.

SUPPLEMENTARY INFORMATION:

Electronic Access and Filing Address

You can view an electronic version of this proposed rule at BLM's Internet home page: www.blm.gov. You can also comment via the Internet at: WOComment@wo.blm.gov. Please include “Attention: AC64” and your name and return address in your Internet message. If you do not receive a confirmation from our system that we have received your Internet message, contact us directly at (202) 452-5030.

Written Comments

Written comments on the proposed rule should:

A. Be specific;

B. Be confined to issues pertinent to the proposed rule;

C. Explain the reason for any recommended change; and

D. Reference the specific section or paragraph of the proposal you are addressing.

The BLM may not necessarily consider or include in the Administrative Record for the final rule comments which BLM receives after the close of the comment period (See DATES) or comments delivered to an address other than those listed above (See ADDRESSES).

You can review comments, including names, street addresses, and other contact information of respondents at this address during regular business hours (7:45 a.m. to 4:15 p.m.), Monday through Friday, except Federal holidays. If you are an individual respondent you may request confidentiality. If you request that BLM consider withholding your name, street address, and other contact information (such as: Internet address, FAX or phone number) from public review or from disclosure under the Freedom of Information Act, you must state this prominently at the beginning of your comment. BLM will honor requests for confidentiality on a case-by-case basis to the extent allowed by law. BLM will make available for public inspection in their entirety all submissions from organizations or businesses, and from individuals identifying themselves as representatives or officials of organizations or businesses.

Dated: February 6, 2001.
Piet deWilt,
Acting Assistant Secretary, Land and Minerals Management.

[FR Doc. 01-3739 Filed 2-12-01; 8:45 am]

BILLING CODE 4310-84-P